DEPARTMENT OF ENERGY

Federal Energy Regulatory Commission

[Docket No. RP00-399-002

National Fuel Gas Supply Corporation; Notice of Compliance Filing

June 7, 2001.

Take notice that on June 4, 2001, National Fuel Gas Supply Corporation (National Fuel) tendered for filing as part of its FERC Gas Tariff, Fourth Revised Volume No. 1, revised pro forma tariff sheets, in compliance with Order Nos. 637 and 637-A.

National Fuel states that the filing is made to revise pro forma tariff sheets filed in Docket No. RP00-399-000 on July 17, 2000, in compliance with Order No. 637, and to make other revisions to tariff sheets that were not included in the July 17, 2000 filing. National Fuel states that the revised pro forma tariff sheets are the results of a collaborative process involving a number of discussions among the parties to the proceeding.

National Fuel states that copies of the filing were served upon its customers, interested state commissions and the parties on the official service list compiled by the Secretary in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-14851 Filed 6-12-01; 8:45 am]

BILLING CODE 6717-01-M